DEPARTMENT OF TRANSPORTATION

Federal Aviation Administration

14 CFR Part 39

[Docket No. FAA-2020-1177; Project Identifier MCAI-2020-01336-R; Amendment 39-21403; AD 2021-02-20]

RIN 2120-AA64

Airworthiness Directives; Hélicoptères Guimbal Helicopters

AGENCY: Federal Aviation Administration (FAA), DOT.

ACTION: Final rule; request for comments.

SUMMARY: The FAA is adopting a new airworthiness directive (AD) for all Hélicoptères Guimbal Model Cabri G2 helicopters. This AD was prompted by a report of a crack in a rotating scissor fitting. This AD requires an initial and repetitive inspections of certain rotating and non-rotating scissor fittings, and depending on the results, replacing the affected assembly. This AD also prohibits installing certain main rotor hubs (MRHs) and swashplate guides unless the initial inspection has been accomplished. The FAA is issuing this AD to address the unsafe condition on these products.

DATES: This AD becomes effective February 22, 2021.

The Director of the Federal Register approved the incorporation by reference of certain documents listed in this AD as of February 22, 2021.

The FAA must receive comments on this AD by March 22, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Hélicoptères Guimbal, Basile Ginel, 1070, rue du Lieutenant Parayre, Aérodrome d'Aix-en-Provence, 13290 Les Milles, France; telephone 33-04-42-39-10-88; email basile.ginel@guimbal.com; web https://www.guimbal.com. You may view this service information at the FAA, Office of the Regional Counsel, Southwest Region, 10101 Hillwood Pkwy., Room 6N-321, Fort Worth, TX 76177. For information on the availability of this material at the FAA, call (817) 222-5110. It is also available at https://www.regulations.gov by searching for and locating Docket No. FAA-2020-1177.

Examining the AD Docket

You may examine the AD docket at https://www.regulations.gov by searching for and locating Docket No. FAA-2020-1177; or in person at Docket Operations between 9 a.m. and 5 p.m., Monday through Friday, except Federal holidays. The AD docket contains this final rule, the European Union Aviation Safety Agency (EASA) AD, any comments received, and other information. The street address for Docket Operations is listed above.

FOR FURTHER INFORMATION CONTACT: Fred Guerin, Aerospace Engineer, General Aviation & Rotorcraft Section, International Validation Branch, FAA, 2200 South 216th St. Des Moines, WA 98198; telephone (206) 231-3500; email fred.guerin@faa.gov.

SUPPLEMENTARY INFORMATION:

Background

The EASA, which is the Technical Agent for the Member States of the European Union, has issued EASA AD No. 2020-0199, dated September 21, 2020, and corrected September 24, 2020 (EASA AD 2020-0199), to correct an unsafe condition for Hélicoptères Guimbal (HG) Model Cabri G2 helicopters. EASA advises of a report of a crack in a rotating scissor fitting discovered during maintenance. According to EASA, the suspected root cause of the crack was corrosion under residual stress. This condition, if not addressed, could result in failure of the rotating or non-rotating scissor fitting on either the MRH or the swashplate guide, and subsequent loss of control of the helicopter.

Accordingly, EASA AD 2020-0199 requires an initial and repetitive inspections of the rotating and non-rotating scissor fittings part number (P/N) G12-00-200 installed on the MRH or swashplate guide, respectively. If a crack is detected, the EASA AD requires replacing the affected MRH or swashplate guide with a serviceable part. The EASA AD prohibits installing certain MRHs and swashplate guides unless the initial inspection has been accomplished. The EASA AD also requires reporting certain information to HG.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type design.

Related Service Information Under 1 CFR Part 51

The FAA reviewed Guimbal Service Bulletin SB 20-011, Revision C, and SB 20-012, Revision B, each dated October 5, 2020 (SB 20-011 Rev C and SB 20-012 Rev B). SB 20-012 Rev B specifies removing the bolts connecting the two scissor fittings P/N G12-00-200 and accomplishing a one-time detailed inspection for a crack in certain areas. SB 20-012 Rev B also specifies reassembling the two scissor fittings using correct bolt torque limits, installing new cotter pins, and reporting any findings to HG customer service. SB 20-011 Rev C specifies procedures for a recurring inspection after accomplishment of SB 20-012 Rev B of the same areas of the scissor fittings for a crack as SB 20-012 Rev B, except without removing the bolts which connect the two scissor fittings. SB 20-011 Rev C also specifies reporting any findings to customer service.

This service information is reasonably available because the interested parties have access to it through their normal course of business or by the means identified in the ADDRESSES section.

Other Related Service Information

The FAA also reviewed Guimbal Service Bulletin SB 20-011, Revision B, and SB 20-012, Revision A, each dated September 1, 2020 (SB 20-011 Rev B and SB 20-012 Rev A). SB 20-012 Rev A specifies the same procedures as SB 20-012 Rev B, except SB 20-012 Rev B revises the compliance time, adds the EASA AD identification information, and updates the Situation section description. SB 20-011 Rev B specifies the same procedures as SB 20-011 Rev C, except SB 20-011 Rev C adds the EASA AD identification information and updates the Situation section description.

AD Requirements

This AD requires, within 30 hours time-in-service (TIS) or 30 calendar days, whichever occurs first, inspecting each rotating and non-rotating scissor fitting with the bolts connecting the scissor fittings removed. For this initial inspection, this AD requires removing the cotter pins and bolts that connect the two scissor fittings, cleaning the outside surface of each scissor fitting, and using a flashlight to visually inspect each scissor fitting for a crack.

This AD also requires, at intervals not to exceed 50 hours TIS or 6 months, whichever occurs first, repetitive inspections of each scissor fitting without removing the bolts and separating the two scissor fittings. For these repetitive inspections, this AD requires cleaning each scissor fitting, and while using a flashlight, visually inspecting each scissor fitting for a crack.

If during any inspection there is a crack, this AD requires replacing the MRH or swashplate guide, as applicable, before further flight.

This AD also prohibits installing an MRH or swashplate guide with an affected scissor fitting installed, even if new, unless the initial inspection has been accomplished.

Differences Between This AD and the EASA AD

The EASA AD requires detailed inspections, whereas this AD requires cleaning each scissor fitting and visually inspecting each scissor fitting using a flashlight. The EASA AD also requires reporting certain information, whereas this AD does not. The EASA AD allows installing a new (not previously installed) MRH or swashplate guide, whereas this AD prohibits installing a new MRH or swashplate guide unless the initial inspection has been accomplished.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the initial inspection must be completed within 30 hours TIS or 30 calendar days, whichever occurs first, and thereafter, the repetitive inspections must be completed within 50 hours TIS or 6 months, whichever occurs first. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2020-1177; Project Identifier MCAI-2020-01336-R at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Guerin, Aerospace Engineer, General Aviation and Rotorcraft Section, International Validation Branch (AIR-732), FAA, 2200 South 216th St., Des Moines, WA 98198; telephone (206) 231-3500; email fred.guerin@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 32 helicopters of U.S. Registry. Labor rates are estimated at $85 per work-hour. Based on these numbers, the FAA estimates the following costs to comply with this AD.

Removing and installing the bolt and cotter pins in the initial inspection takes a minimal amount of time. Inspecting each scissor fitting takes about 0.5 work-hour for an estimated cost of $43 per fitting, per inspection cycle. There are 2 scissor fittings installed on a helicopter, for an estimated cost of $85 per helicopter and $2,720 for the U.S. fleet, per inspection cycle. If required, replacing an MRH takes about 5 work-hours and the part costs about $32,000, for an estimated cost of $32,425 per helicopter. If required, replacing a swashplate guide takes about 6 work-hours and the part costs about $2,000, for an estimated cost of $2,510 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General Requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-02-20 Hélicoptères Guimbal: Amendment 39-21403; Docket No. FAA-2020-1177; Project Identifier MCAI-2020-01336-R.

(a) Effective Date

This airworthiness directive (AD) is effective February 22, 2021.

(b) Affected ADs

None.

(c) Applicability

This AD applies to Hélicoptères Guimbal Model Cabri G2 helicopters, certificated in any category, with rotating or non-rotating scissor fitting part number (P/N) G12-00-200, installed on the main rotor hub (MRH) or swashplate guide, respectively.

(d) Subject

Joint Aircraft Service Component (JASC) Code: 6700, Rotorcraft Flight Control.

(e) Unsafe Condition

This AD was prompted by a report of a crack in a rotating scissor fitting. The FAA is issuing this AD to detect a crack and prevent failure of a scissor fitting. The unsafe condition, if not addressed, could result in failure of a rotating or non-rotating scissor fitting and subsequent loss of control of the helicopter.

(f) Compliance

Comply with this AD within the compliance times specified, unless already done.

(g) Required Actions

(1) Within 30 hours time-in-service (TIS) or 30 calendar days, whichever occurs first:

(i) Remove the cotter pins and bolts connecting the rotating and non-rotating scissor fitting by following the Required Actions, IPC 4.1-2(a), of Guimbal Service Bulletin SB 20-012, Revision B, dated October 5, 2020 (SB 20-012 Rev B). Remove the cotter pins from service. Clean each scissor fitting. Using a flashlight, visually inspect each scissor fitting by following the Required Actions, IPC 4.1-2(b), of SB 20-012 Rev B.

(ii) If there is a crack, before further flight, replace the MRH or swashplate guide, as applicable.

(iii) If there is not a crack, reassemble the scissor fittings by following the Required Actions, IPC 4.1-2(c), of SB 20-012 Rev B.

(2) Thereafter, within 50 hours TIS or 6 months, whichever occurs first, and at intervals not to exceed 50 hours TIS or 6 months, whichever occurs first:

(i) Leaving each rotating and non-rotating scissor fitting assembled, clean each scissor fitting. Using a flashlight, visually inspect each scissor fitting by following the Required Actions, IPC 4.1-2(a), of Guimbal Service Bulletin SB 20-011, Revision C, dated October 5, 2020.

(ii) If there is a crack, before further flight, replace the MRH or swashplate guide, as applicable.

(3) As of the effective date of this AD, do not install an MRH or swashplate guide, with rotating or non-rotating scissor fitting P/N G12-00-200 installed, respectively, on any helicopter, even if new, unless the actions required by paragraph (g)(1) of this AD have been accomplished.

(h) Credit for Previous Actions

(1) This paragraph provides credit for the actions required by paragraph (g)(1) of this AD if you accomplished Guimbal Service Bulletin SB 20-012, Revision A, dated September 1, 2020, before the effective date of this AD.

(2) This paragraph provides credit for the first instance of the actions required by paragraph (g)(2) of this AD if you accomplished Guimbal Service Bulletin SB 20-011, Revision B, dated September 1, 2020, before the effective date of this AD.

(i) Special Flight Permits

A special flight permit may be permitted provided that there are no passengers onboard, and the flight is operating under day Visual Flight Rules, for the purpose of ferrying the helicopter to an authorized maintenance facility.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) For more information about this AD, Fred Guerin, Aerospace Engineer, General Aviation & Rotorcraft Section, International Validation Branch, FAA, 2200 South 216th St., Des Moines, WA 98198; telephone (206) 231-3500; email fred.guerin@faa.gov.

(2) Guimbal Service Bulletin SB 20-011, Revision B, and SB 20-012, Revision A, each dated September 1, 2020, which are not incorporated by reference, contain additional information about the subject of this AD. For service information identified in this AD, contact Hélicoptères Guimbal, Basile Ginel, 1070, rue du Lieutenant Parayre, Aérodrome d'Aix-en-Provence, 13290 Les Milles, France; telephone 33-04-42-39-10-88; email basile.ginel@guimbal.com; web https://www.guimbal.com. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD No. 2020-0199, dated September 24, 2020. You may view the EASA AD on the internet at https://www.regulations.gov in Docket No. FAA-2020-1177.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Guimbal Service Bulletin SB 20-011, Revision C, dated October 5, 2020.

(ii) Guimbal Service Bulletin SB 20-012, Revision B, dated October 5, 2020.

(3) For Guimbal service information identified in this AD, contact Hélicoptères Guimbal, Basile Ginel, 1070, rue du Lieutenant Parayre, Aérodrome d'Aix-en-Provence, 13290 Les Milles, France; telephone 33-04-42-39-10-88; email basile.ginel@guimbal.com; web https://www.guimbal.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fedreg.legal@nara.gov, or go to: https://www.archives.gov/federal-register/cfr/ibr-locations.html.

Issued on January 19, 2021.
Lance T. Gant,
Director, Compliance & Airworthiness Division, Aircraft Certification Service.

[FR Doc. 2021-02532 Filed 2-3-21; 2:00 pm]

BILLING CODE 4910-13-P